DEPARTMENT OF COMMERCE

International Trade Administration

[A-201-805]

Circular Welded Non-Alloy Steel Pipe From Mexico: Rescission of Antidumping Duty Administrative Review

AGENCY: Import Administration, International Trade Administration, Department of Commerce.

SUMMARY: In response to requests from Niples Del Norte S.A. de C.V. (“NDN”), Hylsa S.A. de C.V. (“Hylsa”), Mueller Comercial de Mexico, S. de R.L. de C.V (“Mueller”) and Productos Laminados de Monterrey, S.A. de C.V (“Prolamsa”), four Mexican manufacturers of circular welded non-alloy steel pipe, and Southland Pipe Nipples Co., Inc. (“Southland”), an interested party, the Department of Commerce (“the Department”) initiated an administrative review of the antidumping duty order on circular welded non-alloy steel pipe from Mexico. See Notice of Initiation of Antidumping and Countervailing Duty Administrative Reviews and Request for Revocation in Part, 70 FR 76024 (December 22, 2005). This administrative review covered the period November 1, 2004, through October 31, 2005. We are now rescinding this review due to requests by parties to withdraw from the review and the Department's determination that Prolamsa did not have shipments of subject merchandise during the period of review.

EFFECTIVE DATE: March 27, 2006.

FOR FURTHER INFORMATION CONTACT: John Drury or Abdelali Elouaradia, AD/CVD Operations, Office 7, Import Administration, International Trade Administration, U.S. Department of Commerce, 14th Street and Constitution Avenue, NW, Room 7866, Washington, DC 20230; telephone: (202) 482-0195 or (202) 482-1374, respectively.

SUPPLEMENTARY INFORMATION:

Background

The Department published an antidumping duty order on circular welded non-alloy steel pipe from Mexico on November 2, 1992. See Notice of Antidumping Duty Orders: Certain Circular Welded Non-Alloy Steel Pipe from Brazil, the Republic of Korea (“Korea”), Mexico, and Venezuela and Amendment to Final Determination of Sales at Less Than Fair Value: Certain Welded Non-Alloy Steel Pipe from Korea, 57 FR 49453 (November 2, 1992). The Department published a notice of “Opportunity to Request an Administrative Review” of the antidumping duty order for the period November 1, 2004, through October 31, 2005, on November 1, 2005. See 70 FR 65883. Respondents NDN, Hylsa, Prolamsa, Mueller, and interested party Southland requested that the Department conduct an administrative review of the antidumping duty order on circular welded non-alloy steel pipe and tube from Mexico on November 30, 2005. In response to these requests, the Department published the initiation of the antidumping duty administrative review on circular welded non-alloy steel pipe from Mexico on December 22, 2005. See 70 FR 76024. The Department received requests for withdrawal from the administrative review from Mueller, NDN, and Southland on January 31, 2006. The Department received a request for withdrawal from the administrative review from Hylsa on February 27, 2006.

Prolamsa

On December 14, 2005, the Department received a letter from respondent Prolamsa. The letter indicated that U.S. Customs and Border Protection (“CBP”) liquidated all of Prolamsa's entries of merchandise during the period of review that Prolamsa considered to be covered by the scope of the order. See Letter from Prolamsa to the Department, dated December 14, 2005. In response, the Department requested that Prolamsa provide data on all sales of merchandise made during the period of review that Prolamsa considered covered by the order; see Memorandum to the File from John Drury, Senior Case Analyst, dated December 19, 2005. Prolamsa provided the requested information; see Letter from Prolamsa to the Department, dated December 20, 2005. Petitioners filed comments regarding the information submitted by Prolamsa on January 23, 2006; see Letter from Petitioners to the Department, dated January 23, 2006. In response, Prolamsa requested that the Department determine whether the merchandise exported by Prolamsa during the period of review was merchandise subject to the scope of the order; see Letter from Prolamsa to the Department, dated February 6, 2006.

Based on a review of the evidence on the record, the Department determined that Prolamsa had not sold merchandise subject to the order during the period of review. See Letter from the Department to Prolamsa, dated February 14, 2006.

Rescission of the Administrative Review

Pursuant to 19 CFR 351.213(d)(1), the Secretary will rescind an administrative review under this section, in whole or in part, if a party that requested a review withdraws the request within 90 days of the date of publication of notice of initiation of the requested review. Additionally, the Secretary may rescind an administrative review, if the Secretary concludes that there were no entries or sales of subject merchandise during the POR. See 19 CFR 351.213(d)(3). NDN, Mueller, Southland and Hylsa have withdrawn their requests in a timely manner, and the Department determined that Prolamsa did not have sales of subject merchandise during the period of review. Therefore, we are rescinding this review. The Department will issue appropriate assessment instructions to CBP within 15 days of publication of this notice.

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

This notice is published in accordance with section 777(i) of the Tariff Act of 1930, as amended, and 19 CFR 351.213(d)(4).

Dated: March 16, 2006.
David M. Spooner,
Assistant Secretary for Import Administration.

[FR Doc. E6-4398 Filed 3-24-06; 8:45 am]

BILLING CODE 3510-DS-S